DEPARTMENT OF ENERGY

Federal Energy Regulatory Commission

Combined Notice of Filings #1

Take notice that the Commission received the following electric corporate filings:

Docket Numbers: EC23-70-000.

Applicants: Blue Cloud Wind Energy, LLC.

Description: Application for Authorization Under Section 203 of the Federal Power Act of Blue Cloud Wind Energy, LLC.

Filed Date: 4/4/23.

Accession Number: 20230404-5252.

Comment Date: 5 p.m. ET 4/25/23.

Take notice that the Commission received the following exempt wholesale generator filings:

Docket Numbers: EG23-113-000.

Applicants: Umbriel Solar, LLC.

Description: Umbriel Solar, LLC submits Notice of Self-Certification of Exempt Wholesale Generator Status.

Filed Date: 4/4/23.

Accession Number: 20230404-5240.

Comment Date: 5 p.m. ET 4/25/23.

Docket Numbers: EG23-114-000.

Applicants: Cattlemen Solar Park, LLC.

Description: Cattlemen Solar Park, LLC submits Notice of Self-Certification of Exempt Wholesale Generator Status.

Filed Date: 4/4/23.

Accession Number: 20230404-5244.

Comment Date: 5 p.m. ET 4/25/23.

Docket Numbers: EG23-115-000.

Applicants: Crooked Lake Solar, LLC.

Description: Crooked Lake Solar, LLC submits Notice of Self-Certification of Exempt Wholesale Generator Status.

Filed Date: 4/4/23.

Accession Number: 20230404-5245.

Comment Date: 5 p.m. ET 4/25/23.

Docket Numbers: EG23-116-000.

Applicants: Indiana Crossroads Wind Farm II LLC.

Description: Indiana Crossroads Wind Farm II LLC submits Notice of Self-Certification of Exempt Wholesale Generator Status.

Filed Date: 4/4/23.

Accession Number: 20230404-5246.

Comment Date: 5 p.m. ET 4/25/23.

Docket Numbers: EG23-117-000.

Applicants: Pearl River Solar Park LLC.

Description: Pearl River Solar Park LLC submits Notice of Self-Certification of Exempt Wholesale Generator Status.

Filed Date: 4/4/23.

Accession Number: 20230404-5247.

Comment Date: 5 p.m. ET 4/25/23.

Docket Numbers: EG23-118-000.

Applicants: Riverstart Solar Park III LLC.

Description: Riverstart Solar Park III LLC submits Notice of Self-Certification of Exempt Wholesale Generator Status.

Filed Date: 4/4/23.

Accession Number: 20230404-5248.

Comment Date: 5 p.m. ET 4/25/23.

Take notice that the Commission received the following electric rate filings:

Docket Numbers: ER23-933-001.

Applicants: Idaho Power Company.

Description: Tariff Amendment: Revisions to Attachment M Section 3—Interconnection Requests—Amended to be effective 6/5/2023.

Filed Date: 4/4/23.

Accession Number: 20230404-5205.

Comment Date: 5 p.m. ET 4/25/23.

Docket Numbers: ER23-1479-002.

Applicants: Eversource Energy Service Company (as agent), ISO New England Inc.

Description: Tariff Amendment: ISO New England Inc. submits tariff filing per 35.17(b): ISO-NE/CL&P; First Revised LGIA-ISO-NE/CLP-22-01 to be effective 2/23/2023.

Filed Date: 4/4/23.

Accession Number: 20230404-5219.

Comment Date: 5 p.m. ET 4/25/23.

Docket Numbers: ER23-1565-000.

Applicants: Umbriel Solar, LLC.

Description: Baseline eTariff Filing: Market-Based Rate Application to be effective 6/4/2023.

Filed Date: 4/4/23.

Accession Number: 20230404-5211.

Comment Date: 5 p.m. ET 4/25/23.

Docket Numbers: ER23-1566-000.

Applicants: PJM Interconnection, L.L.C.

Description: § 205(d) Rate Filing: Original ISA, Service Agreement No. 6852; Queue No. AF1-320 to be effective 3/6/2023.

Filed Date: 4/5/23.

Accession Number: 20230405-5006.

Comment Date: 5 p.m. ET 4/26/23.

Docket Numbers: ER23-1567-000.

Applicants: Southwest Power Pool, Inc.

Description: § 205(d) Rate Filing: Tariff Clean-Up Filing Effective 20220215 to be effective 2/15/2022.

Filed Date: 4/5/23.

Accession Number: 20230405-5030.

Comment Date: 5 p.m. ET 4/26/23.

Docket Numbers: ER23-1568-000.

Applicants: Oklahoma Gas and Electric Company, Southwest Power Pool, Inc.

Description: § 205(d) Rate Filing: Oklahoma Gas and Electric Company submits tariff filing per 35.13(a)(2)(iii: OG&E Formula Rate Revisions to Incorporate Changes Accepted in ER23-703 to be effective 1/27/2020.

Filed Date: 4/5/23.

Accession Number: 20230405-5036.

Comment Date: 5 p.m. ET 4/26/23.

Docket Numbers: ER23-1569-000.

Applicants: Yellowbud Solar, LLC.

Description: Baseline eTariff Filing: Reactive Power Compensation to be effective 5/8/2023.

Filed Date: 4/5/23.

Accession Number: 20230405-5050.

Comment Date: 5 p.m. ET 4/26/23.

Docket Numbers: ER23-1570-000.

Applicants: PJM Interconnection, L.L.C.

Description: § 205(d) Rate Filing: WMPA, Service Agreement No. 6847; Queue No. AF2-102 to be effective 3/6/2023.

Filed Date: 4/5/23.

Accession Number: 20230405-5059.

Comment Date: 5 p.m. ET 4/26/23.

Docket Numbers: ER23-1571-000.

Applicants: Duquesne Light Company, PJM Interconnection, L.L.C.

Description: § 205(d) Rate Filing: Duquesne Light Company submits tariff filing per 35.13(a)(2)(iii: Duquesne Light Co. submits revisions to OATT Att. H-17 to be effective 6/5/2023.

Filed Date: 4/5/23.

Accession Number: 20230405-5069.

Comment Date: 5 p.m. ET 4/26/23.

Docket Numbers: ER23-1572-000.

Applicants: Niagara Mohawk Power Corporation, New York Independent System Operator, Inc.

Description: § 205(d) Rate Filing: Niagara Mohawk Power Corporation submits tariff filing per 35.13(a)(2)(iii: 205: EP between Niagara Mohawk and Horseshoe Solar Energy (SA 2771) to be effective 3/7/2023.

Filed Date: 4/5/23.

Accession Number: 20230405-5100.

Comment Date: 5 p.m. ET 4/26/23.

Docket Numbers: ER23-1573-000.

Applicants: New York Independent System Operator, Inc., New York State Electric & Gas Corporation.

Description: § 205(d) Rate Filing: New York Independent System Operator, Inc. submits tariff filing per 35.13(a)(2)(iii: NYISO-NYSEG Joint 205: Unexecuted EPCA w Ticonderoga Solar National Grid SA2764 to be effective 4/6/2023.

Filed Date: 4/5/23.

Accession Number: 20230405-5107.

Comment Date: 5 p.m. ET 4/26/23.

Docket Numbers: ER23-1574-000.

Applicants: PJM Interconnection, L.L.C.

Description: § 205(d) Rate Filing: Original ISA, SA No. 6849; Queue No. AE1-170 to be effective 3/6/2023.

Filed Date: 4/5/23.

Accession Number: 20230405-5118.

Comment Date: 5 p.m. ET 4/26/23.

Docket Numbers: ER23-1576-000.

Applicants: Duquesne Light Company, PJM Interconnection, L.L.C.

Description: § 205(d) Rate Filing: Duquesne Light Company submits tariff filing per 35.13(a)(2)(iii: Duquesne Light Co. submits one WDSA, SA No. 6877 to be effective 6/5/2023.

Filed Date: 4/5/23.

Accession Number: 20230405-5128.

Comment Date: 5 p.m. ET 4/26/23.

Docket Numbers: ER23-1577-000.

Applicants: Daggett Solar Power 2 LLC.

Description: Baseline eTariff Filing: Market-Based Rate Application to be effective 6/10/2023.

Filed Date: 4/5/23.

Accession Number: 20230405-5131.

Comment Date: 5 p.m. ET 4/26/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 5, 2023.
Debbie-Anne A. Reese,
Deputy Secretary.

[FR Doc. 2023-07582 Filed 4-10-23; 8:45 am]

BILLING CODE 6717-01-P